DEPARTMENT OF COMMERCE

National Oceanic and Atmospheric Administration

RIN 0648-XG57

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application submitted by the University of Maryland Eastern Shore (UMES) contains all of the required information and warrants further consideration. The Assistant Regional Administrator has made a preliminary determination that the activities authorized under this EFP would be consistent with the goals and objectives of the Northeast (NE) Multispecies and Monkfish Fishery Management Plans (FMPs). However, further review and consultation may be necessary before a final determination is made to issue an EFP. Therefore, NMFS announces that the Assistant Regional Administrator proposes to recommend that an EFP be issued that would allow one commercial fishing vessel to conduct fishing operations that are otherwise restricted by the regulations governing the fisheries of the Northeastern United States. This EFP, which would enable researchers to study the effects of climate on the distribution and catch rates of monkfish, would grant exemptions from the NE multispecies regulations as follows: Gulf of Maine (GOM) Rolling Closure Area III and NE multispecies effort control measures.

Regulations under the Magnuson-Stevens Fishery Conservation and Management Act require publication of this notification to provide interested parties the opportunity to comment on applications for proposed EFPs.

DATES: Comments must be received on or before April 10, 2008.

ADDRESSES: You may submit written comments by any of the following methods:

• Email: DA8-055@noaa.gov. Include in the subject line “Comments on UMES Monkfish EFP.”

• Mail: Patricia A. Kurkul, Regional Administrator, NMFS, NE Regional Office, 1 Blackburn Drive, Gloucester, MA 01930. Mark the outside of the envelope “Comments on UMES monkfish EFP, DA8-055.”

• Fax: (978) 281-9135.

FOR FURTHER INFORMATION CONTACT: Emily Bryant, Fishery Management Specialist, 978-281-9244.

SUPPLEMENTARY INFORMATION: An application for an EFP was submitted on February 20, 2008, by Andrea K. Johnson, Ph.D., Research Assistant Professor at UMES, for a project funded under the New England and Mid-Atlantic Fishery Management Councils' Monkfish Research Set-Aside (RSA) Program. The primary goal of this study is to investigate the influence of temperature on monkfish distribution and abundance, as well as determine age and growth patterns, spawning frequency, feeding rates, and cannibalism. This information will provide information on the biology of monkfish that could be used to enhance the management of this species. This is the first year this project has been funded under the Monkfish RSA Program.

The project is scheduled to be conducted for 1 year, from May 2008 through April 2009. Four fishing industry collaborators using 95 Monkfish days-at-sea (DAS) that will be awarded to the project through the monkfish RSA Program would collect a total of 640 monkfish from three size categories. Three monkfish gillnet vessels fishing in the Southern Fishery Management Area will collect monkfish as part of otherwise normal fishing activities, and do not require an EFP. One vessel fishing in the Northern Fishery Management Area would collect monkfish from a location inside Rolling Closure Area III. This activity would require an exemption from the restrictions of Rolling Closure Area III at 50 CFR 648.81(f) that will be in effect during May 2008. It is expected that this location would provide access to large monkfish and would avoid gear interactions between the research gillnet gear and the trawl gear. Due to the high economic value associated with the NE multispecies DAS, the applicant is also requesting exemption from the NE multispecies effort control measures at § 648.80(a)(3)(vi) in order to create sufficient incentive for a commercial vessel to participate in this experiment in the NFMA. This would exempt the vessel from the need to use a NE Multispecies DAS when fishing in the GOM for these research trips. The vessel would be using a large (12-inch) (30-cm) mesh, so the bycatch of NE multispecies is expected to be minimal.

The vessel would make up to 40 trips (25 DAS) using gillnets that are 12-inch (30-cm) stretch mesh with a 3.5-inch (8.9-cm) diameter gauge web that is 12 meshes deep. Each net is 300 ft (91 m) long, and 100 nets would be hauled every 5 days in the spring, summer, and fall, with an average soak time of 120 hours. Five fish per week would be donated to UMES between May-December 2008, and February-April 2009. The smallest samples would measure 17 inches (44 cm) in length. Additional catch, within applicable size and possession limits, would be sold to help offset the costs of the research. As a consequence of the exemption from the need to use a NE Multispecies DAS, the vessel would not keep any regulated NE multispecies. Since these trips would be using gillnets with very large mesh, the bycatch of regulated NE multispecies is expected to be minimal.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 19, 2008.
Emily H. Menashes
Acting Director, Office of Sustainable Fisheries, National Marine Fisheries Service.

[FR Doc. E8-6190 Filed 3-25-08; 8:45 am]

BILLING CODE 3510-22-S